DEPARTMENT OF TRANSPORTATION

Federal Aviation Administration

14 CFR Part 39

[Docket No. FAA-2004-18809; Directorate Identifier 2004-NM-91-AD; Amendment 39-13873; AD 2004-23-18]

RIN 2120-AA64

Airworthiness Directives; Airbus Model A319, A320, and A321 Series Airplanes

AGENCY: Federal Aviation Administration (FAA), DOT.

ACTION: Final rule.

SUMMARY: The FAA is adopting a new airworthiness directive (AD) for certain Airbus Model A319, A320, and A321 series airplanes. This AD requires revising the airplane flight manual (AFM) to prohibit operators from performing CAT 2 or CAT 3 automatic landings or roll-outs at certain airports. This AD also provides for an optional terminating action for the AFM revision. This AD is prompted by data showing that the magnetic variation table installed in the Honeywell inertial reference system (IRS) is obsolete at certain airports. We are issuing this AD to prevent the airplane from departing the runway during a CAT 2 or CAT 3 automatic landing or roll-out, due to magnetic and IRS deviations.

DATES: This AD becomes effective January 3, 2005.

The incorporation by reference of a certain publication listed in the AD is approved by the Director of the Federal Register as of January 3, 2005.

ADDRESSES: For service information identified in this AD, contact Airbus, 1 Rond Point Maurice Bellonte, 31707 Blagnac Cedex, France.

You can examine this information at the National Archives and Records Administration (NARA). For information on the availability of this material at NARA, call (202) 741-6030, or go to: http://www.archives.gov/federal_register/code_of_federal_regulations/ibr_locations.html.

You can examine the contents of this AD docket on the Internet at http://dms.dot.gov, or in person at the Docket Management Facility, U.S. Department of Transportation, 400 Seventh Street SW., Room PL-401, on the plaza level of the Nassif Building, Washington, DC.

FOR FURTHER INFORMATION CONTACT: Technical information: Tim Dulin, Aerospace Engineer, International Branch, ANM-116, FAA, Transport Airplane Directorate, 1601 Lind Avenue, SW., Renton, Washington 98055-4056; telephone (425) 227-2141; fax (425) 227-1149.

Plain language information: Marcia Walters, marcia.walters@faa.gov.

Examining the Docket

The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section.

SUPPLEMENTARY INFORMATION: The FAA proposed to amend 14 CFR part 39 with an AD for certain Airbus Model A319, A320, and A321 series airplanes. The proposed AD was published in the Federal Register on August 10, 2004 (69 FR 48426), to require revising the airplane flight manual (AFM) to prohibit operators from performing CAT 2 or CAT 3 automatic landings or roll-outs at certain airports. The proposed AD also provided for an optional terminating action for the AFM revision.

Comments

We provided the public the opportunity to participate in the development of this AD. We have considered the comments that have been submitted on the proposed AD. The commenters support the proposed AD.

Conclusion

We have carefully reviewed the available data, including the comments that have been submitted, and determined that air safety and the public interest require adopting the AD as proposed.

Costs of Compliance

This AD will affect about 242 airplanes of U.S. registry. The AFM revision will take about 1 work hour per airplane, at an average labor rate of $65 per work hour. Based on these figures, the estimated cost of the required AFM revision for U.S. operators is $15,730, or $65 per airplane.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2004-23-18 Airbus: Amendment 39-13873. Docket No. FAA-2004-18809; Directorate Identifier 2004-NM-91-AD.

Effective Date

(a) This airworthiness directive (AD) becomes effective January 3, 2005.

Affected ADs

(b) None.

Applicability

(c) This AD applies to Model A319, A320, and A321 series airplanes; certificated in any category; equipped with a Honeywell air data inertial reference unit (ADIRU) having any part number (P/N) listed in Table 1 of this AD; on which Airbus Modification 30652, 30941, or 30942 has not been done.

Table 1.—Honeywell ADIRU P/N
HG1150AC05.
HG1150AC06.
HG2030AC05.
HG2030AC06.
HG2030AC08.
HG2030AC09.
HG2030AD09.

(d) This AD was prompted by data showing that the magnetic variation table installed in the Honeywell inertial reference system (IRS) is obsolete at certain airports. We are issuing this AD to prevent the airplane from departing the runway during a CAT 2 or CAT 3 automatic landing or roll-out, due to magnetic and IRS deviations.

Compliance

(e) You are responsible for having the actions required by this AD performed within the compliance times specified, unless the actions have already been done.

Airplane Flight Manual (AFM) Revision

(f) Within 14 days after the effective date of this AD: Revise the Limitations Section of the Airbus A318/319/320/321 AFM to prohibit operators from performing CAT 2 or CAT 3 automatic landings or roll-outs at certain airports by incorporating Airbus Temporary Revision (TR) 2.05.00/52, dated June 13, 2003, into the AFM, and operate the airplane in accordance with those limitations.

(g) When the information in Airbus TR 2.05.00/52, dated June 13, 2003, has been incorporated into the general revisions of the AFM, the general revisions may be inserted into the AFM, and the TR may be removed from the AFM.

Optional Terminating Action

(h) Replacement of Honeywell ADIRUs having a P/N listed in Table 1 of this AD with new ADIRUs having new P/Ns, by doing all the actions using the Accomplishment Instructions of Airbus Service Bulletin A320-34-1231, Revision 02, dated October 10, 2002 (for Model A320 series airplanes); A320-34-1240, Revision 01, dated October 10, 2001 (for Model A319, A320, and A321 series airplanes); or A320-34-1249, dated June 25, 2001 (for Model A319, A320, and A321 series airplanes); as applicable; terminates the AFM revision required by paragraph (f) of this AD. Following accomplishment of the replacement, the TR may be removed from the AFM.

(i) Prior to or concurrently with accomplishment of the optional terminating action in paragraph (h) of this AD: Do the replacements using Airbus Service Bulletin A320-34-1084, dated September 15, 1994 (for Model A320 series airplanes); A320-34-1129, Revision 01, dated July 22, 1997 (for Model A319, A320, and A321 series airplanes); or A320-34-1136, dated June 5, 1997 (for Model A319, A320, and A321 series airplanes); as applicable.

(j) Prior to or concurrently with accomplishment of Airbus Service Bulletin A320-34-1084: Do the modification of certain ADIRU equipment using Airbus Service Bulletin A320-34-1010, dated September 6, 1989 (for Model A320 series airplanes).

(k) Honeywell Service Bulletins HG1150AC-34-0007, Revision 001, dated September 18, 2001; HG2030AC-34-0009, Revision 1, dated October 1, 2002; and HG2030AD-34-0007, Revision 1, dated June 4, 2001; are referenced in the Airbus service bulletins specified in paragraph (h) of this AD as additional sources of service information for accomplishment of the replacement of the ADIRUs.

Alternative Methods of Compliance (AMOCs)

(l) The Manager, International Branch, ANM-116, Transport Airplane Directorate, FAA, has the authority to approve AMOCs for this AD, if requested in accordance with the procedures found in 14 CFR 39.19.

Related Information

(m) The subject of this AD is addressed in French airworthiness directive 2003-270(B), dated July 23, 2003.

Material Incorporated by Reference

(n) You must use Airbus Temporary Revision 2.05.00/52, dated June 13, 2003, to the Airbus A318/A319/A320/A321 Airplane Flight Manual, to perform the actions that are required by this AD, unless the AD specifies otherwise. (Only the first page of the temporary revision contains the document date; no other page of that document contains this information.) The Director of the Federal Register approves the incorporation by reference of this document in accordance with 5 U.S.C. 552(a) and 1 CFR part 51. For copies of the service information, contact Airbus, 1 Rond Point Maurice Bellonte, 31707 Blagnac Cedex, France. For information on the availability of this material at the National Archives and Records Administration (NARA), call (202) 741-6030, or go to http://www.archives.gov/federal_register/code_of_federal_regulations/ibr_locations.html. You may view the AD docket at the Docket Management Facility, U.S. Department of Transportation, 400 Seventh Street SW., Room PL-401, Nassif Building, Washington, DC.

Issued in Renton, Washington, on November 10, 2004.
Ali Bahrami,
Manager, Transport Airplane Directorate, Aircraft Certification Service.

[FR Doc. 04-25787 Filed 11-24-04; 8:45 am]

BILLING CODE 4910-13-P